DEPARTMENT OF THE INTERIOR

Bureau of Land Management

[LLMT926000-09-L19100000-BJ0000-LRCM08RS3469]

Filing of Plat of Survey—Montana

AGENCY: Bureau of Land Management, Montana State Office, Interior.

ACTION: Notice of Filing of Plat of Survey.

SUMMARY: The Bureau of Land Management (BLM) will file the plat of survey of the lands described below in the BLM Montana State Office, Billings, Montana, (30) days from the date of publication in the Federal Register.

FOR FURTHER INFORMATION CONTACT: Marvin Montoya, Cadastral Surveyor, Branch of Cadastral Survey, Bureau of Land Management, 5001 Southgate Drive, Billings, Montana 59101-4669, telephone (406) 896-5124 or (406) 896-5009.

SUPPLEMENTARY INFORMATION: This survey was executed at the request of the Bureau of Indian Affairs, Rocky Mountain Region, Billings, Montana, and was necessary to determine Individual and Tribal Trust lands.

The lands we surveyed are:

Principal Meridian, Montana

T. 27 N., R. 47 E.

The plat, in 1 sheet, representing the dependent resurvey of a portion of the 11th Guide Meridian East, the adjusted original meanders of the former left bank of the Missouri River, downstream, through section 31, the corrective dependent resurvey of the E-W center line of section 31, the dependent resurvey of a portion of the subdivision of section 31, a certain division of accretion line, and the subdivision of section 31, and the survey of the meanders of the present left bank of the Missouri River, downstream, through a portion of section 31, the meanders of the left bank of a relicted channel of the Missouri River, downstream, through section 31, the medial line of a relicted channel of the Missouri River, downstream, through section 31, and a certain division of accretion and partition line, Township 27 North, Range 47 East, Principal Meridian, Montana, was accepted August 13, 2009.We will place a copy of the plat, in 1 sheet, and related field notes we described in the open files. They will be available to the public as a matter of information. If BLM receives a protest against this survey, as shown on this plat, in 1 sheet, prior to the date of the official filing, we will stay the filing pending our consideration of the protest. We will not officially file this plat, in 1 sheet, until the day after we have accepted or dismissed all protests and they have become final, including decisions or appeals.

Dated: August 18, 2009.
Michael T. Birtles,
Chief Cadastral Surveyor, Division of Resources.

[FR Doc. E9-20375 Filed 8-24-09; 8:45 am]

BILLING CODE 4310-$$-P